DEPARTMENT OF COMMERCE

International Trade Administration

[C-570-105]

Carbon and Alloy Steel Threaded Rod From the People's Republic of China: Final Results of Countervailing Duty Administrative Review; 2022

AGENCY: Enforcement and Compliance, International Trade Administration, Department of Commerce.

SUMMARY: The U.S. Department of Commerce (Commerce) determines that certain producers and exporters of carbon and alloy steel threaded rod (steel threaded rod) from the People's Republic of China (China) received countervailable subsidies during the period of review (POR) January 1, 2022, through December 31, 2022.

DATES: Applicable July 12, 2024.

FOR FURTHER INFORMATION CONTACT: Bryan Hansen or Thomas Schauer, AD/CVD Operations, Office I, Enforcement and Compliance, International Trade Administration, U.S. Department of Commerce, 1401 Constitution Avenue NW, Washington, DC 20230; telephone: (202) 482-3683 or (202) 482-0410, respectively.

SUPPLEMENTARY INFORMATION:

Background

On April 9, 2020, Commerce published in the Federal Register the countervailing duty order on steel threaded rod from China.¹ On April 3, 2024, Commerce published the preliminary results of the 2022 administrative review of the Order and invited comments from interested parties.² For a complete description of the events that occurred since the Preliminary Results, see the Issues and Decision Memorandum.³

¹ See Carbon and Alloy Steel Threaded Rod from India and the People's Republic of China: Countervailing Duty Orders, 85 FR 19927 (April 9, 2020) (Order).

² See Carbon and Alloy Steel Threaded Rod from the People's Republic of China: Preliminary Results and Partial Rescission of the Countervailing Duty Administrative Review; 2022, 89 FR 22999 (April 3, 2024) (Preliminary Results), and accompanying Preliminary Decision Memorandum (PDM).

³ See Memorandum, “Issues and Decision Memorandum for the Final Results of the Administrative Review of the Countervailing Duty Order on Carbon and Alloy Steel Threaded Rod from the People's Republic of China; 2022,” dated concurrently with, and hereby adopted by, this notice (Issues and Decision Memorandum).

Scope of the Order

The product covered by the Order is steel threaded rod from China. For a full description of the scope of the Order, see the Issues and Decision Memorandum.

Analysis of Comments Received

All issues raised by Ningbo Zhenghai Yongding Fastener Co., Ltd., in its case brief, are addressed in the Issues and Decision Memorandum.⁴ A list of the issues raised is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ No other interested parties filed a case or rebuttal brief.

Changes Since the Preliminary Results

Based on our analysis of comments received and the evidence on the record, we made certain changes to the calculations of Ningbo Zhenghai Yongding Fastener Co., Ltd.'s benefits for three programs: (1) provision of wire rod at less than adequate remuneration (LTAR); (2) provision of steel bar at LTAR; and (3) provision of electricity at LTAR. For a discussion of these changes, see the Issues and Decision Memorandum.

Methodology

Commerce conducted this administrative review in accordance with section 751(a)(1)(A) of the Tariff Act of 1930, as amended (the Act). For each of the subsidy programs found to be countervailable, we determine that there is a subsidy, i.e., a government-provided financial contribution that gives rise to a benefit to the recipient, and that the subsidy is specific.⁵ For a full description of the methodology underlying Commerce's conclusions, including our reliance, in part, on facts otherwise available with adverse inferences pursuant to sections 776(a) and (b) of the Act, see the Issues and Decision Memorandum.

⁵ See sections 771(5)(B) and (D) of the Act regarding financial contribution; section 771(5)(E) of the Act regarding benefit; and section 771(5A) of the Act regarding specificity.

Final Results of Review

We find the following net countervailable subsidy rates for the period January 1, 2022, through December 31, 2022:

⁶ As discussed in the Preliminary Results PDM, Commerce has found Ningbo Yongzan Machinery Parts Co., Ltd. to be cross-owned with Ningbo Zhenghai Yongding Fastener Co., Ltd.

Company | Subsidy Rate (percent ad valorem)
Ningbo Zhenghai Yongding Fastener Co., Ltd.⁶ | 7.66

Disclosure

We intend to disclose the calculations performed for these final results of review within five days after the date of publication of this notice in the Federal Register in accordance with 19 CFR 351.224(b).

Assessment

In accordance with section 751(a)(2)(C) of the Act and 19 CFR 351.212(b)(2), Commerce has determined, and U.S. Customs and Border Protection (CBP) shall assess, countervailing duties on all appropriate entries covered by this review for Ningbo Zhenghai Yongding Fastener Co., Ltd. at the applicable ad valorem assessment rate listed. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown for the companies listed above for shipments of subject merchandise entered, or withdrawn from warehouse, for consumption on or after the date of publication of the final results of this administrative review. For all non-reviewed firms, we will instruct CBP to continue to collect cash deposits of estimated countervailing duties at the all-others rate (i.e., 41.17 percent) ⁷ or the most recent company-specific rate applicable to the company, as appropriate. These cash deposit requirements, effective upon publication of these final results, shall remain in effect until further notice.

⁷ See Order, 85 FR at 19928.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

These final results are issued and published in accordance with sections 751(a)(1) and 777(i)(1) of the Act, and 19 CFR 351.221(b)(5).

Dated: July 8, 2024.
Abdelali Elouaradia,
Deputy Assistant Secretary for Enforcement and Compliance.

Appendix

List of Topics Discussed in the Issues and Decision Memorandum

I. Summary

II. Background

III. Scope of the Order

IV. Subsidies Valuation

V. Analysis of Programs

VI. Discussion of the Issues

Comment 1: Electricity Rate Benchmarks

Comment 2: Container Size for Benchmark Price for Wire Rod and Steel Bar

Comment 3: Value-Added Tax (VAT) in the Wire Rod and Steel Bar Prices

Comment 4: Ukrainian Benchmark Prices for Wire Rod

VII. Recommendation

[FR Doc. 2024-15332 Filed 7-11-24; 8:45 am]

BILLING CODE 3510-DS-P